NUCLEAR REGULATORY COMMISSION

[NRC-2010-0150]

Notice of Availability of the Models for Plant-Specific Adoption of Technical Specifications Task Force Traveler TSTF-514, Revision 3, “Revise BWR Operability Requirements and Actions for RCS Leakage Instrumentation”

AGENCY: Nuclear Regulatory Commission (NRC).

ACTION: Notice of availability.

SUMMARY: As part of the consolidated line item improvement process (CLIIP), the NRC is announcing the availability of the model application (with model no significant hazards consideration determination) and model safety evaluation (SE) for the plant-specific adoption of Technical Specifications Task Force (TSTF) Traveler TSTF-514, Revision 3, “Revise BWR [boiling water reactor] Operability Requirements and Actions for RCS [reactor coolant system] Leakage Instrumentation.” TSTF-514, Revision 3, is available in the Agencywide Documents Access and Management System (ADAMS) under Accession Number ML103280389. The proposed changes revise the Standard Technical Specifications (STS) to define a new time limit for restoring inoperable RCS leakage detection instrumentation to operable status and establish alternate methods of monitoring RCS leakage when one or more required monitors are inoperable. Changes to the Technical Specifications (TS) Bases are included, which reflect the proposed changes and more accurately reflect the contents of the facility design bases related to the operability of the RCS leakage detection instrumentation. The CLIIP model SE will facilitate expedited approval of plant-specific adoption of TSTF-514, Revision 3.

Documents: You can access publicly available documents related to this notice using the following methods:

NRC's Public Document Room (PDR): The public may examine and have copied for a fee publicly available documents at the NRC's PDR, Room O1-F21, One White Flint North, 11555 Rockville Pike, Rockville, Maryland 20852.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail at pdr.resource@nrc.gov.

The model application (with model no significant hazards consideration determination) and model SE for the plant-specific adoption of TSTF-514, Revision 3, are available electronically under ADAMS Accession Number ML102300729. The NRC staff disposition of comments received on the Notice of Opportunity for Comment announced in the Federal Register on April 13, 2010 (75 FR 18907-18908), is available electronically under ADAMS Accession Number ML102300727.

Federal rulemaking Web site: The public comments received and supporting materials related to this notice can be found at http://www.regulations.gov by searching on Docket ID NRC-2010-0150.

FOR FURTHER INFORMATION CONTACT: Ms. Kristy Bucholtz, Reactor Systems Engineer, Technical Specifications Branch, Mail Stop: O7-C2A, Division of Inspection and Regional Support, Office of Nuclear Reactor Regulation, U.S. Nuclear Regulatory Commission, Washington, DC 20555-0001; telephone 301-415-1295 or e-mail Kristy.Bucholtz@nrc.gov or Mrs. Michelle Honcharik, Senior Project Manager, Licensing Processes Branch, Mail Stop: O12-D1, Division of Policy and Rulemaking, Office of Nuclear Reactor Regulation, U.S. Nuclear Regulatory Commission, Washington, DC 20555-0001; telephone 301-415-1774 or e-mail at Michelle.Honcharik@nrc.gov.

SUPPLEMENTARY INFORMATION: TSTF-514, Revision 3, is applicable to BWR plants. Licensees opting to apply for this TS change are responsible for reviewing TSTF-514, Revision 3, and the NRC staff's model SE, providing any necessary plant-specific information, and assessing the completeness and accuracy of their license amendment request (LAR). It is acceptable for licensees to use plant-specific system names, TS numbering and titles. The NRC will process each amendment application responding to this notice of availability according to applicable NRC rules and procedures.

This CLIIP does not prevent licensees from requesting an alternate approach or proposing changes other than those proposed in TSTF-514, Revision 3. However, significant deviations from the approach recommended in this notice or the inclusion of additional changes to the license require additional NRC staff review and would not be reviewed as a part of the CLIIP. This may increase the time and resources needed for the review or result in NRC staff rejection of the LAR. Licensees desiring significant deviations or additional changes should instead submit an LAR that does not claim to adopt TSTF-514, Revision 3.

Dated at Rockville, Maryland, this 7th day of December 2010.
For the Nuclear Regulatory Commission.
Melissa S. Ash,
Acting Chief, Licensing Processes Branch, Division of Policy and Rulemaking, Office of Nuclear Reactor Regulation.

[FR Doc. 2010-31730 Filed 12-16-10; 8:45 am]

BILLING CODE 7590-01-P